DEPARTMENT OF TRANSPORTATION

Federal Aviation Administration

14 CFR Part 39

[Docket No. FAA-2014-0143; Directorate Identifier 2012-NM-113-AD]

RIN 2120-AA64

Airworthiness Directives; Airbus Airplanes

AGENCY: Federal Aviation Administration (FAA), DOT.

ACTION: Supplemental notice of proposed rulemaking (NPRM); reopening of comment period.

SUMMARY: We are revising an earlier proposed airworthiness directive (AD) for all Airbus Model A300 B4-603, B4-620, B4-622, B4-605R, B4-622R, F4-605R, F4-622R, and C4-605R variant F airplanes. The NPRM proposed to require repetitive detailed inspections of the lower frame fittings, related investigative actions, and corrective actions if necessary. The NPRM was prompted by reports of cracks in the frame base fittings connecting the frame lower positions to the center wing box. This action revises the NPRM by replacing the proposed requirements with new repetitive detailed inspections for cracking of the lower frame fittings of the frame foot, and replacement with a new frame foot if cracking is found. This action also provides optional terminating action for the repetitive inspections. We are proposing this supplemental NPRM (SNPRM) to detect and correct cracking of the lower frame fittings, which could result in reduced structural integrity of the airplane. Since these actions impose an additional burden over those proposed in the NPRM, we are reopening the comment period to allow the public the chance to comment on these proposed changes.

DATES: We must receive comments on this SNPRM by August 22, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0143; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2014-0143; Directorate Identifier 2012-NM-113-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued a notice of proposed rulemaking (NPRM) to amend 14 CFR part 39 by adding an AD that would apply to all Airbus Model A300 B4-603, B4-620, B4-622, B4-605R, B4-622R, F4-605R, F4-622R, and C4-605R variant F airplanes. The NPRM published in the Federal Register on March 19, 2014 (79 FR 15266) (“the NPRM”).

The NPRM was prompted by reports of cracks in the frame base fittings connecting the frame lower positions to the center wing box. The NPRM proposed to require repetitive detailed inspections of the lower frame fittings, related investigative actions, and corrective actions if necessary.

Actions Since NPRM Was Issued

Since we issued the NPRM, we have determined that repairs to address cracking in the frame foot area found during accomplishment of the detailed inspection of the lower frame fittings specified in Airbus Service Bulletin A300-53-6111, Revision 05, including Appendix 01, dated January 28, 2013, are not adequate to prevent further cracking. The European Aviation Safety Agency, which is the Technical Agent for the Member States of the European Union, has issued EASA Airworthiness Directive 2015-0217, dated October 30, 2015 (referred to after this as the Mandatory Continuing Airworthiness Information, or “the MCAI”), to correct an unsafe condition on all Airbus Model A300 B4-603, B4-620, B4-622, B4-605R, B4-622R, F4-605R, F4-622R, and C4-605R variant F airplanes. The MCAI states:

During accomplishment of Airbus Service Bulletin (SB) A300-53-6111 (EASA AD 2012-0103), addressing detailed visual inspections of the lower frame fittings between Frame (FR) 41 and FR46, a crack was detected on one A300-600 aeroplane in the area 2 of the foot of FR46 at junction radius level.

This frame, previously repaired due to a crack finding in the frame foot area 1, was not due to be inspected before reaching the post-repair inspection threshold, i.e. 45,400 flight cycles since repair embodiment.

Further investigation determined that the repairs specified in Airbus SB A300-53-6111 were of limited effect to prevent cracking in the frame foot area 2.

This condition, if not detected and corrected, could affect the structural integrity of the fuselage of all aeroplanes operated up to the extended service goal (ESG).

As a temporary action and until an improvement of the existing repairs was made available, EASA issued AD 2012-0229 [AD * * *] to require a one-time detailed inspection (DET) of the frame feet that were repaired in accordance with Airbus SB A300-53-6111, and the reporting of findings to Airbus.

Since that [EASA] AD was issued, a detailed study was performed resulting in the development of a new inspection programme.

Consequently, Airbus cancelled SB A300-53-6111 and replaced it with SB A300-53-6177, introducing repetitive DET of the lower frame fittings between FR41 and FR46 for the entire fleet. In addition to this new inspection programme, Airbus designed a new frame foot which can be installed on aeroplanes through Airbus SB A300-53-6176.

For the reasons described above, this [EASA] AD supersedes EASA AD 2012-0103, not retaining its requirements, and instead requires the new inspection programme for the lower frame fittings. This [EASA] AD also introduces an optional terminating action for the repetitive inspections required by the [EASA] AD.

Corrective actions include replacing any cracked lower frame fittings with a new frame foot. You may examine the MCAI in the AD docket on the Internet at http://www.regulations.gov by searching for and locating FAA-2014-0143.

Related Service Information Under 1 CFR Part 51

Airbus has issued Service Bulletin A300-53-6177, dated May 20, 2015. The service information describes procedures for repetitive detailed inspections for cracking of the lower frame fittings between FR41 and FR46. Airbus has also issued Service Bulletin A300-53-6176, dated May 20, 2015. The service information describes procedures for replacing all lower frame feet between frame FR41 and FR46 with new, improved frame feet. This service information is reasonably available because the interested parties have access to it through their normal course of business or by the means identified in the ADDRESSES section.

Comments

We gave the public the opportunity to participate in developing this proposed AD. We considered the comments received.

Request To Revise Method Used To Determine Compliance Times

United Parcel Service (UPS) requested that the compliance times in the proposed AD (in the NPRM) be revised to be less complex. UPS stated that the proposed compliance times contain a method known as “Average Flight Time” (AFT) which results in a variable flight hour limit and adds an unnecessary complexity to the threshold table and subsequent inspection actions. UPS added that use of the AFT method, along with a lack of standard procedures for implementing the AFT method would create uncertainty for operators and inspectors trying to determine the correct compliance time. UPS stated that a defined threshold and repetitive inspection interval would adequately provide for timely detection of possible damage.

We disagree with the commenter's request to revise the compliance times in this proposed AD. The compliance times in this proposed AD correspond with those in the MCAI AD, which refers to Airbus Service Bulletin A300-53-6177, dated May 20, 2015. In Airbus Service Bulletin A300-53-6177, dated May 20, 2015, the inspection thresholds and intervals are based on the accumulation of both flight cycles and flight hours, and are listed in tables appropriately grouping airplanes with average flight time utilization above 1.5 hours, and airplanes with average flight time utilization at or below 1.5 hours. We have determined these compliance times acceptable for this proposed AD.

However, we do acknowledge that a fixed compliance time for a fleet could be easier for operators to schedule and record compliance. Therefore, under the provisions of paragraph (j)(1) of this proposed AD, we will consider requests for approval of an alternative method of compliance (AMOC) if a proposal is submitted that is supported by technical data that includes fatigue and damage tolerance analysis. We have not changed this proposed AD in this regard.

Request To Remove Reporting Requirement

FedEx objected to the reporting requirement in the proposed AD (in the NPRM).

We infer that FedEx wants the reporting requirement removed. We disagree that the reporting requirement should be removed from this proposed AD. We have determined that reporting the inspection findings will enable the manufacturer to obtain better insight into the extent of the cracking. We have made no change to this proposed AD in this regard.

Request To Remove Requirement To Refer to This AD in Repair Approvals

UPS requested that we revise the proposed AD (in the NPRM) to remove the requirement to include the AD reference in repair approvals. UPS noted its concerns that the NPRM will increase requests for approval of alternative methods of compliance (AMOCs) and result in delays to other services and actions addressed by the FAA on a daily basis.

We agree with the commenter's request to remove from this proposed AD the requirement that repair approvals must specifically refer to this AD. Since late 2006, we have included a standard paragraph titled “Airworthy Product” in all MCAI ADs in which the FAA develops an AD based on a foreign authority's AD. The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the proposed AD (in the NPRM) we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include “the Design Approval Holder (DAH) with a State of Design Authority's design organization approval (DOA)” to refer to a DAH authorized to approve required repairs for the AD.

In its comments to the proposed AD (in the NPRM), UPS stated the following: “The proposed wording, being specific to repairs, eliminates the interpretation that Airbus messages or other approved EASA documents are acceptable for approving minor deviations (corrective actions) needed during accomplishment of a[n AD] mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an AMOC to the AD-required actions using the procedures found in 14 CFR 39.19.

To address this misunderstanding and misinterpretation of the Airworthy Product paragraph, we have changed that paragraph and retitled it “Contacting the Manufacturer.” This paragraph now clarifies that for any requirement in this AD to obtain corrective actions from a manufacturer, the actions must be accomplished using a method approved by the FAA, EASA, or Airbus's EASA DOA.

The “Contacting the Manufacturer” paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility afforded previously by the Airworthy Product paragraph. Consistent with long-standing FAA policy, such flexibility was never intended for required actions. This is also consistent with the recommendation of the AD Implementation Aviation Rulemaking Committee to increase flexibility in complying with ADs by identifying those actions in manufacturers' service instructions that are “Required for Compliance” with ADs. We continue to work with manufacturers to implement this recommendation. But once we determine that an action is required, any deviation from the requirement must be approved as an AMOC.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Certain changes described above expand the scope of the NPRM. As a result, we have determined that it is necessary to reopen the comment period to provide additional opportunity for the public to comment on this SNPRM.

Costs of Compliance

We estimate that this SNPRM affects 123 airplanes of U.S. registry.

We estimate that it would take about 541 work-hours per product to comply with the basic requirements of this SNPRM, and 1 work-hour per product for reporting. The average labor rate is $85 per work-hour. Required parts would cost about $0 per product. Based on these figures, we estimate the cost of this SNPRM on U.S. operators to be $5,666,610, or $46,070 per product.

We estimate that the optional terminating modification would take about 529 work-hours and require parts costing $131,500, for a cost of $176,465.

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2014-0143; Directorate Identifier 2012-NM-113-AD.

(a) Comments Due Date

We must receive comments by August 22, 2016.

(b) Affected ADs

None.

(c) Applicability

This AD applies to Airbus Model A300 B4-603, B4-620, B4-622, B4-605R, B4-622R, F4-605R, F4-622R, and C4-605R variant F airplanes; certificated in any category; all serial numbers.

(d) Subject

Air Transport Association (ATA) of America Code 53, Fuselage.

(e) Reason

This AD was prompted by reports of cracks in the frame base fittings connecting the frame lower positions to the center wing box. We are issuing this AD to detect and correct cracking of the lower frame fittings, which could result in reduced structural integrity of the airplane.

(f) Compliance

Comply with this AD within the compliance times specified, unless already done.

(g) Repetitive Inspections and Replacement If Necessary

At the applicable time specified in paragraph 1.E., “Compliance,” of Airbus Service Bulletin A300-53-6177, dated May 20, 2015, except where Airbus Service Bulletin A300-53-6177, dated May 20, 2015, specifies a compliance time “from issuance of Revision 04 of Service Bulletin A300-53-6111,” this AD requires compliance within the specified compliance time after the effective date of this AD: Perform a detailed inspection for cracking of the lower frame fittings between frame (FR) 41 and FR46 of the frame foot, and if any crack is found, before further flight, replace with a new frame foot, in accordance with the Accomplishment Instructions of Airbus Service Bulletin A300-53-6177, dated May 20, 2015. Repeat the inspection thereafter at the applicable intervals specified in paragraph 1.E., “Compliance,” of Airbus Service Bulletin A300-53-6177, dated May 20, 2015.

(h) Reporting

At the applicable time specified in paragraph (h)(1) or (h)(2) of this AD: Submit a report of the findings (both positive and negative) of each inspection required by paragraph (g) of this AD. Send the report to Airbus Service Bulletin Reporting Online Application on Airbus World (https://w3.airbus.com).

(1) If the inspection was done on or after the effective date of this AD: Submit the report within 30 days after the inspection.

(2) If the inspection was done before the effective date of this AD: Submit the report within 30 days after the effective date of this AD.

(i) Optional Terminating Action

Replacement of all lower frame feet between FR41 and FR46, in accordance with the Accomplishment Instructions of Airbus Service Bulletin A300-53-6176, dated May 20, 2015, terminates the repetitive inspections required by paragraph (g) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-1405; fax 425-227-2125. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Related Information

(1) Refer to Mandatory Continuing Airworthiness Information (MCAI) EASA Airworthiness Directive 2015-0217, dated October 30, 2015, for related information. This MCAI may be found in the AD docket on the Internet at http://www.regulations.gov by searching for and locating Docket No. FAA-2014-0143.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. You may view this service information at the FAA, Transport Airplane Directorate, 1601 Lind Avenue SW., Renton, WA. For information on the availability of this material at the FAA, call 425-227-1221.

Issued in Renton, Washington, on June 23, 2016.
Dorr M. Anderson,
Acting Manager, Transport Airplane Directorate, Aircraft Certification Service.

[FR Doc. 2016-15928 Filed 7-6-16; 8:45 am]

BILLING CODE 4910-13-P